DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of two individuals whose property and interests in property have been blocked pursuant to the Foreign Narcotics Kingpin Designation Act (“Kingpin Act”) (21 U.S.C. 1901-1908, 8 U.S.C. 1182).

DATES: The designation by the Director of OFAC of the two individuals identified in this notice pursuant to section 805(b) of the Kingpin Act is effective on June 7, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 7, 2012, the Director of OFAC designated the following two individuals whose property and interests in property are blocked pursuant to section 805(b) of the Kingpin Act.

Individuals

1. GUZMAN SALAZAR, Jesus Alfredo (a.k.a. GUZMAN LOERA, Alfredo; a.k.a. GUZMAN SALAZAR, Alejandro), Cerrada Nayar No. 222, Colonia Ciudad del Sol, Zapopan, Jalisco 45050, Mexico; Calle Quebec 606 B, Prados Providencia, Guadalajara, Jalisco, Mexico; Calle Mango 2129, Colonia Paraisos del Colli, Guadalajara, Jalisco, Mexico; Calle 3 De Mayo #16, Texcalame, Tequila, Jalisco, Mexico; Calle Mexico Independiente #733, Colonia Conjunto Patria, Zapopan, Jalisco, Mexico; Rincon del Abedul 126, Colonia Rinconada Guadalupe, Zapopan, Jalisco, Mexico; Avenida Guadalupe #5105, Colonia Jardines Guadalupe, Zapopan, Jalisco, Mexico; Empresarios 35, Zapopan, Jalisco, Mexico; DOB 17 May 1986; alt. DOB 17 May 1983; POB Zapopan, Jalisco, Mexico; C.U.R.P. GUSJ860517HJCZLS06 (Mexico) (individual) [SDNTK]

2. SALAZAR HERNANDEZ, Maria Alejandrina (a.k.a. HERNANDEZ SALAZAR, Maria A; a.k.a. SALAZAR DE GUZMAN, Alejandrina; a.k.a. SALAZAR HERNANDEZ, Alejandrina Maria; a.k.a. SALAZAR HERNANDEZ, Alejandrina; a.k.a. SALAZAR HERNANDEZ, Alejandra; a.k.a. SALAZAR HERNANDEZ, Maria A; a.k.a. SALAZAR HERNANDEZ DE GUZMAN, Maria), Avenida Central 1191-35, Condominio Malaga, Colonia Parques de la Castellana, Zapopan, Jalisco, Mexico; Local 9 Zona E, Plaza Universidad, Zapopan, Jalisco, Mexico; Avenida Nayar #222, Colonia Ciudad del Sol, Zapopan, Jalisco, Mexico; Avenida Pablo Neruda #4341-E9, Colonia Villa Universitaria, Guadalajara, Jalisco, Mexico; Calle Mexico Independiente #733, Colonia Conjunto Patria, Zapopan, Jalisco, Mexico; Calle GK Chesterton #184, Zapopan, Jalisco, Mexico; Hidalgo 20 Naucalpan, Mexico City, DF, Mexico; Calle Quebec 606-B, Colonia Prados Providencia, Guadalajara, Mexico; Avenida Manuel Acuna 2929 C-6, Fraccionamiento Terranova, Guadalajara, Mexico; Calle Herrera y Cairo 2800, Local C6, Fraccionamiento Terranova, Guadalajara, Jalisco, Mexico; Calle Rinconada del Abedul #126, Colonia Rinconada Guadalupe, Zapopan, Jalisco, Mexico; Conchas Chinas Condominiums, Puerto Vallarta, Jalisco, Mexico; DOB 17 Jul 1958; POB Culiacan, Sinaloa, Mexico; C.U.R.P. SAHA580717MSLLRL07 (Mexico); Passport 140302262 (Mexico); R.F.C. SAHA580717AP6 (Mexico) (individual) [SDNTK]

Dated: June 7, 2012.
Adam J. Szubin,
Director, Office of Foreign Assets Control.

[FR Doc. 2012-14596 Filed 6-14-12; 8:45 am]

BILLING CODE 4810-AL-P